DEPARTMENT OF ENERGY

Federal Energy Regulatory Commission

Combined Notice of Filings # 1

April 17, 2008.

Take notice that the Commission received the following electric corporate filings:

Docket Numbers: EC08-73-000.

Applicants: PPL EnergyPlus, LLC, BE Ironwood LLC.

Description: PPL EnergyPlus, LLC and BE Ironwood LLC submits a joint application for authorization to dispose of jurisdictional facilities.

Filed Date: 04/15/2008.

Accession Number: 20080417-0042.

Comment Date: 5 p.m. Eastern Time on Tuesday, May 6, 2008.

Take notice that the Commission received the following exempt wholesale generator filings:

Docket Numbers: EG08-60-000.

Applicants: Sheldon Energy LLC.

Description: Sheldon Energy LLC submits its Notice of Self Certification of Exempt Wholesale Generator Status.

Filed Date: 04/15/2008.

Accession Number: 20080417-0041.

Comment Date: 5 p.m. Eastern Time on Tuesday, May 6, 2008.

Docket Numbers: EG08-61-000.

Applicants: Gunsight Mountain Wind Energy LLC.

Description: Gunsight Mountain Wind Energy LLC submits their Notice of Self-Certification of Exempt Wholesale Generator Status.

Filed Date: 04/15/2008.

Accession Number: 20080417-0040.

Comment Date: 5 p.m. Eastern Time on Tuesday, May 6, 2008.

Docket Numbers: EG08-62-000.

Applicants: Willow Creek Energy LLC.

Description: Willow Creek Energy LLC submits a notice of self-certification of its status as an exempt wholesale generator.

Filed Date: 04/15/2008.

Accession Number: 20080417-0039.

Comment Date: 5 p.m. Eastern Time on Tuesday, May 6, 2008.

Take notice that the Commission received the following electric rate filings:

Docket Numbers: ER08-441-003.

Applicants: Velocity American Energy Master I, L.P.

Description: Velocity American Energy Master I, LP submits Substitute Original Sheet 1 to FERC Electric Tariff, Original Volume 1.

Filed Date: 04/16/2008.

Accession Number: 20080417-0032.

Comment Date: 5 p.m. Eastern Time on Wednesday, May 7, 2008.

Docket Numbers: ER08-829-000.

Applicants: ISO New England Inc.

Description: ISO New England, Inc et al. submits revised tariff sheets & supporting testimony of Jonathan B Lowell re proposed revisions to Section 6.4.4 & Appendix F of the Market Rule I to exclude the Real-Time Load Obligations etc.

Filed Date: 04/15/2008.

Accession Number: 20080417-0031.

Comment Date: 5 p.m. Eastern Time on Tuesday, May 6, 2008.

Docket Numbers: ER08-830-000.

Applicants: ISO New England Inc.

Description: ISO New England Inc submits revised tariff sheet reflecting a proposed revision of Market Rule related to the Day-Ahead Load Response Program.

Filed Date: 04/15/2008.

Accession Number: 20080417-0027.

Comment Date: 5 p.m. Eastern Time on Tuesday, May 6, 2008.

Docket Numbers: ER08-833-000.

Applicants: Progress Energy Service Company.

Description: Progress Energy Services Co et al. submits an executed 230 kV Facilities Interconnection Agreement with Florida Power Corp.

Filed Date: 04/16/2008.

Accession Number: 20080417-0029.

Comment Date: 5 p.m. Eastern Time on Wednesday, May 7, 2008.

Docket Numbers: ER08-834-000.

Applicants: New York Independent System Operator, Inc.

Description: New York Independent System Operator, Inc's proposed amendments to certain Market Power Mitigation Measures set forth in Attachment H to its Market Administration and Control Area Services Tariff etc.

Filed Date: 04/16/2008.

Accession Number: 20080417-0033.

Comment Date: 5 p.m. Eastern Time on Wednesday, May 7, 2008.

Docket Numbers: ER08-835-000.

Applicants: Polytop Corporation.

Description: Polytop Corporation submits Petition for Acceptance of Initial Tariff, Waivers and Blanket Authority.

Filed Date: 04/16/2008.

Accession Number: 20080417-0028.

Comment Date: 5 p.m. Eastern Time on Wednesday, May 7, 2008.

Take notice that the Commission received the following open access transmission tariff filings:

Docket Numbers: OA07-25-003.

Applicants: DUKE ENERGY CAROLINAS, LLC.

Description: Order No. 890 Penalty Refund Report OATT Filing of DUKE ENERGY CAROLINAS, LLC.

Filed Date: 04/16/2008.

Accession Number: 20080417-5029.

Comment Date: 5 p.m. Eastern Time on Wednesday, May 7, 2008.

Docket Numbers: OA07-113-001.

Applicants: Public Service Company of New Mexico.

Description: Public Service Company of New Mexico submits First Revised Sheet 135 et al. to Second Revised Volume 6 Open Access Transmission Tariff.

Filed Date: 04/11/2008.

Accession Number: 20080417-0038.

Comment Date: 5 p.m. Eastern Time on Friday, May 2, 2008.

Docket Numbers: OA08-106-000.

Applicants: Midwest Independent Transmission System Operator, Inc.

Description: Midwest Independent Transmission System Operator, Inc. submits the FPA Section 206 Compliance Filing of Non-Rate Terms and Conditions as set forth in Order 890-A.

Filed Date: 04/15/2008.

Accession Number: 20080417-0037.

Comment Date: 5 p.m. Eastern Time on Tuesday, May 6, 2008.

Docket Numbers: OA08-12-001; OA08-62-001.

Applicants: California Independent System Operator Corporation.

Description: California Independent System Operator Corp. submits compliance filing to comply with Order 890 and 890-Ader OA08-12 et al.

Filed Date: 04/15/2008.

Accession Number: 20080417-0036.

Comment Date: 5 p.m. Eastern Time on Tuesday, May 6, 2008.

Docket Numbers: OA08-107-000.

Applicants: New York Independent System Operator, Inc.

Description: New York Independent System Operator, Inc. submits compliance filing like the NYISO's 10/11/07 compliance filing proposes certain revisions to response to Order 890 October 11, filing etc.

Filed Date: 04/15/2008.

Accession Number: 20080417-0035.

Comment Date: 5 p.m. Eastern Time on Tuesday, May 6, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-8785 Filed 4-22-08; 8:45 am]

BILLING CODE 6717-01-P